DEPARTMENT OF ENERGY

Federal Energy Regulatory Commission

[Project No. 5596-020]

Town of Bedford, Virginia; Notice of Application Accepted for Filing, Soliciting Motions To Intervene and Protests, Ready for Environmental Analysis, and Soliciting Comments, Recommendations, Terms and Conditions, and Fishway Prescriptions

Take notice that the following hydroelectric application has been filed with the Commission and is available for public inspection.

a. Type of Application: New Major License.

b. Project No.: 5596-020.

c. Date filed: April 30, 2021.

d. Applicant: Town of Bedford, Virginia (Town of Bedford).

e. Name of Project: Bedford Hydroelectric Project (Bedford Project or project).

f. Location: On the James River, near the Town of Bedford, in Bedford and Amherst counties, Virginia.

g. Filed Pursuant to: Federal Power Act 16 U.S.C. 791 (a)-825(r).

h. Applicant Contact: James Rowlett, Electric Systems Engineer, Town of Bedford Electric Department, 877 Monroe Street, Bedford, Virginia 24523; (540) 587-6079 or jrowlett@bedfordva.gov; and Joe Peterson, Hydro Plant Engineer, Town of Bedford Electric Department, 877 Monroe Street, Bedford, Virginia 24523; (540) 587-6071 or JPeterson@bedfordva.gov.

i. FERC Contact: Andy Bernick at (202) 502-8660, or andrew.bernick@ferc.gov.

j. Deadline for filing motions to intervene and protests, comments, and final recommendations, terms and conditions, and prescriptions: 60 days from the issuance date of this notice; reply comments are due 105 days from the issuance date of this notice.

The Commission strongly encourages electronic filing. Please file motions to intervene, protests, comments, and final recommendations, terms and conditions, and fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Washington, DC 20426. Submissions sent via any other carrier must be addressed to: Kimberly D. Bose, Secretary, Federal Energy Regulatory Commission, 12225 Wilkins Avenue, Rockville, Maryland 20852. All filings must clearly identify the project name and docket number on the first page: Bedford Hydroelectric Project (P-5596-020).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on April 20, 2022, revising the regulations under 40 CFR parts 1502, 1507, and 1508 that federal agencies use to implement the National Environmental Policy Act (NEPA) (see National Environmental Policy Act Implementing Regulations Revisions, 87 FR 23,453-70). The final rule became effective on May 20, 2022. Commission staff intends to conduct its NEPA review in accordance with CEQ's new regulations.

l. The current Bedford Project license authorizes: (1) a 9- to 17-foot-high concrete gravity dam with a 1,680-foot-long concrete spillway; (2) a 57-acre impoundment with a storage capacity of 350 acre-feet at the normal maximum pool elevation of 627.7 feet North American Vertical Datum of 1988 (NAVD 88); (3) a 1,200-foot-long, 180-foot-wide, 16-foot-deep power canal; (4) a power canal headgate composed of three 21.6-foot-wide, 15.9-foot-high steel gates; (5) a 49.1-foot-wide, 29.47-foot-high steel trashrack with a clear bar spacing of 3.5 inches; (6) a 55-foot-long, 80-foot-wide powerhouse containing two 2.5-megawatt (MW) turbine-generator units with a total capacity of 5.0 MW; (7) a 1,640-foot-long service road; (8) a 65-foot-long, 120-foot-wide tailrace; (9) a 120-foot-long, 4-kilovolt (kV) underground transmission line connecting the generating units to one 4.16/23-kV, 5-megavolt-ampere step-up transformer; (10) a 2,800-foot-long, 23-kV transmission line; and (11) appurtenant facilities.

The project is operated in a run-of-river mode, whereby outflow from the project approximates inflow. The powerhouse is operated in an automatic control mode using water level transducers to maintain the normal impoundment elevation at 627.7 feet NAVD 88. The minimum and maximum hydraulic capacities of the project are 600 cubic feet per second (cfs) and 3,630 cfs, respectively. A continuous minimum flow of 150 cfs or inflow, whichever is less, is passed into the bypassed reach through four notches along the project's spillway. Flow in excess of the 150-cfs minimum flow requirement is provided to the project's power canal for power generation. Project operation ceases when inflow falls below the project's minimum hydraulic capacity and all flow is passed over the project's dam into the bypassed reach. The average annual generation is estimated to be 13,377 megawatt-hours.

The Town of Bedford proposes to continue operating the project in a run-of-river mode, with no changes to the existing operation. The Town of Bedford also proposes to: (1) construct a new 45-foot by 55-foot maintenance shed within a previously disturbed area north of the powerhouse; and (2) modify the project boundary to remove 54.7 acres (including a 2,800-foot-long transmission line authorized in the current license that the Town of Bedford contends is no longer part of the primary transmission system) and add 43.6 acres (to maintain the visual character of aesthetic resources within the current project boundary, including a Virginia scenic byway and an historic trail), for a total decrease of 11.1 acres.

m. A copy of the application may be viewed on the Commission's website at http://www.ferc.gov using the “eLibrary” link. Enter the docket number excluding the last three digits in the docket number field to access the document. For assistance, contact FERC Online Support. At this time, the Commission has suspended access to the Commission's Public Reference Room. For assistance, contact FERC at FERCOnllineSupport@ferc.gov or call toll-free, (886) 208-3676 or TTY, (202) 502-8659.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following schedule. Revisions to the schedule may be made as appropriate.

Milestone | Target date
Filing of Comments, Recommendations, Terms and Conditions, and Fishway Prescriptions | July 2023.
Filing of Reply Comments | September 2023.

p. Final amendments to the application must be filed with the Commission no later than 30 days from the issuance date of this notice.

q. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

r. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 31, 2023.
Kimberly D. Bose,
Secretary.

[FR Doc. 2023-12077 Filed 6-5-23; 8:45 am]

BILLING CODE 6717-01-P